DEPARTMENT OF THE INTERIOR

Bureau of Land Management

[OR-958-1430-HN; GP0-0105; OR-54394]

Order Providing for Opening of Land; Oregon

AGENCY: Bureau of Land Management, Interior.

ACTION: Notice.

SUMMARY: This action will open 66.24 acres of land to such forms of disposition as may by law be made of National Forest system lands, mining, mineral leasing, and geothermal leasing. The Forest Service exchange proposal has been withdrawn in its entirety.

EFFECTIVE DATE: March 20, 2000.

FOR FURTHER INFORMATION CONTACT: Jenny Liang, BLM Oregon/Washington State Office, P.O. Box 2965, Portland, Oregon 97208,503-952-6299.

SUPPLEMENTARY INFORMATION: Under the authority of the General Exchange Act of March 30, 1922, as amended; the Federal Land Policy and Management Act of 1976, and the Federal Land Exchange Facilitation Act of August 20, 1988, the following described Federal land identified in a proposed exchange between the Wallowa-Whitman National Forest and Bill Brown, Ceridwyn Trust, UAD, has been withdrawn in its entirety:

Willamette Meridian

T. 9 S., R. 36 E.,

Sec. 3,

Those portions of unpatented mining claims IBM 56, IBM 62, IBM 63, Midnight and Midnight Extension. Except any portion contained in unpatented mining claim IBM 61; and also excepting any portion contained in the following patented mining claims: Chebogan, Kitchi, Bald Mountain, Saginaw, Albine, Three Star, of MS 477, also La Cross and Pacific, of MS 813.

The area described contains 66.24 acres in Baker County, Oregon.

At 8:30 a.m., on March 20, 2000, the land will be opened to such forms of disposition as may by law be made of National Forest System lands, subject to valid existing rights, the provisions of existing withdrawals, and the requirements of applicable law. All valid existing applications received at or prior to 8:30 a.m., on March 20, 2000, will be considered as simultaneously filed at that time. Those received thereafter will be considered in the order of filing.

At 8:30 a.m., on March 20, 2000, the land will be opened to location and entry under the United States mining laws. Appropriation under the general mining laws prior to the date and time of restoration is unauthorized. Any such attempted appropriation, including attempted adverse possession under 30 U.S.C. Sec. 38, shall vest no rights against the United States. Acts required to establish a location and to initiate a right of possession are governed by State law where not in conflict with Federal law. The Bureau of Land Management will not intervene in disputes between rival locators over possessory rights since Congress has provided for such determinations in local courts.

At 8:30 a.m., on March 20, 2000, the land will be opened to applications and offers under the mineral leasing laws and the Geothermal Steam Act.

Dated: February 2, 2000.
Robert D. DeViney, Jr.,
Chief, Branch of Realty and Records Services.

[FR Doc. 00-3099 Filed 2-10-00; 8:45 am]

BILLING CODE 4310-33-P